FEDERAL MARITIME COMMISSION

Sunshine Act Meeting

AGENCY HOLDING THE MEETING: Federal Maritime Commission.

FEDERAL REGISTER CITATION OF PREVIOUS ANNOUNCEMENT: 66 FR 35242.

PREVIOUSLY ANNOUNCED TIME AND DATE OF THE MEETING: 10 a.m.—August 15, 2001.

CHANGE IN THE MEETING: Removal of item in the OPEN portion of the meeting.

Item 1—Ocean Shipping Reform Act Impact Study; Docket No. 01-01—The Impact of the Ocean Shipping Reform Act of 1998.

CONTACT PERSON FOR MORE INFORMATION: Bryant L. VanBrakle, Secretary, (202) 523-5725.

Bryant L. VanBrakle,
Secretary.

[FR Doc. 01-20177 Filed 8-7-01; 4:06 pm]

BILLING CODE 6730-01-M